ENVIRONMENTAL PROTECTION AGENCY

[ER-FRL-6636-4]

Environmental Impact Statements; Notice of Availability

Responsible Agency: Office of Federal Activities, General Information (202) 564-7167 or http://www.epa.gov/compliance/nepa/.

Weekly receipt of Environmental Impact Statements

Filed December 23, 2002, through December 27, 2002, pursuant to 40 CFR 1506.9.

EIS No. 020528, DRAFT EIS, AFS, WY, Medicine Bow National Forest, Implementation, Draft Revised Land and Resource Management Plan, Albany, Carbon and Laramie Counties, WY, Comment Period Ends: April 04, 2003, Contact: Lynn Jackson (307) 745-2472. This document is available on the Internet at: http://www.fs.fed.us/r2/mbr.

EIS No. 020529, DRAFT EIS, FHW, MO, Interstate 64/U.S. Route 40 Corridor, Reconstruct the Existing 1-64/U.S. Route 40 Facility with New Interchange Configurations and Roadway, City of St. Louis, St. Louis County, MO, Comment Period Ends: February 28, 2003, Contact: Don Neumann (573) 638-2607.

EIS No. 020530, DRAFT EIS, COE, CA, Port of Long Beach Pier J South Terminal Development, Dredging and Landfilling to Expand and Modernize Port Terminals, Implementation, Facilities Master Plan (FMP), Section 10 and 404 Permits, City of Long Beach, CA, Comment Period Ends: February 18, 2003, Contact: Dr. Aaron O. Allen (805) 585-2148.

EIS No. 020531, DRAFT EIS, AFS, ID, Middle Little Salmon Vegetation Management Project, To Improve the Current Condition of Timber Stands, Payette National Forest, New Meadows Ranger District, Adam County, ID, Comment Period Ends: February 24, 2003, Contact: Sue Dixon (208) 247-0300. This document is available on the Internet at: http://www.fs.fed.us/r4/Payette/main.html.

EIS No. 020532, FINAL EIS, DOE, WA, Maiden Wind Farm Project, Proposes to Construct and Operate up to 494 megawatts (MW) Wind Generation on Privately- and Publicly-owned Property, Conditional Use Permits, Benton and Yakima Counties, WA , Wait Period Ends: February 03, 2003, Contact: Sarah Branum (503) 230-5115.

EIS No. 020533, FINAL SUPPLEMENT, NRC, SC, GENERIC EIS—Catawba Nuclear Station, Unit 1 and 2 (Catawba), Renewal of the Operating Licenses OLs) for an Additional 20-Year Period, Supplement 9 to NUREG-1437, York County, SC , Wait Period Ends: February 03, 2003, Contact: James Wilson (301) 415-1108.

EIS No. 020534, FINAL EIS, NRC, NC, GENERIC EIS—McGuire Nuclear Power Station Units 1 and 2, Supplement 8 to NUREG-1437, Located on the Shore of Lake Norman, Mecklenburg County, NC, Wait Period Ends: February 03, 2003, Contact: James Wilson (301) 415-1108.

Dated: December 30, 2002.
Joseph C. Montgomery,
Office of Federal Activities.

[FR Doc. 03-108 Filed 1-2-03; 8:45 am]

BILLING CODE 6560-50-P